DEPARTMENT OF LABOR

[Agency Docket Number DOL-2021-XXXX]

Labor Advisory Committee for Trade Negotiations and Trade Policy

AGENCY: Bureau of International Labor Affairs, Labor.

ACTION: Meeting notice.

SUMMARY: Notice of a Labor Advisory Committee for Trade Negotiations and Trade Policy meeting.

DATES: October 18, 2021, 3:00 p.m. to 4:30 p.m.; Virtually via Zoom for Government.

FOR FURTHER INFORMATION CONTACT: Anne M. Zollner, Designated Federal Official and Division Chief, Trade Negotiations and Implementation, Office of Trade and Labor Affairs, Bureau of International Labor Affairs, Department of Labor, Frances Perkins Building, Room S-5317, 200 Constitution Ave. NW, Washington, DC 20210, telephone (202) 693-4890, zollner.anne@dol.gov.

SUPPLEMENTARY INFORMATION: The Labor Advisory Committee for Trade Negotiations and Trade Policy consults with and makes recommendations to the Secretary of Labor and the United States Trade Representative on general policy matters concerning labor and trade negotiations, operations of any trade agreement once entered into, and other matters arising in connection with the administration of the trade policy of the United States.

During the meeting, the Committee will review and discuss current issues that influence U.S. trade policy. The Committee will also discuss potential U.S. negotiating objectives and bargaining positions in current and anticipated trade negotiations. Pursuant to 19 U.S.C. 2155(f)(2)(A), the meeting will concern matters the disclosure of which would seriously compromise the Government's negotiating objectives or bargaining positions. Therefore, the meeting is exempt from the requirements of subsections (a) and (b) of sections 10 and 11 of the Federal Advisory Committee Act (relating to open meetings, public notice, public participation, and public availability of documents). 5 U.S.C. app. Accordingly, the meeting will be closed to the public.

Signed at Washington, DC, this 30th day of September 2021.
Thea M. Lee,
Deputy Undersecretary, Bureau of International Affairs.

[FR Doc. 2021-21681 Filed 10-4-21; 8:45 am]

BILLING CODE 4510-28-P